DEPARTMENT OF DEFENSE

Office of the Secretary

Membership of the Performance Review Board

AGENCY: Department of Defense, Missile Defense Agency (MDA).

ACTION: Notice.

SUMMARY: This notice announces the appointment of the members of the Performance Review Board (PRB) of the Missile Defense Agency (MDA). The publication of PRB membership is required by 5 U.S.C. 4314(c) (4).

The PRB provides fair and impartial review of Senior Executive Service performance appraisals and makes recommendations regarding performance ratings and performance scores to the Director, MDA.

DATES: Effective Date: September 1, 2008

FOR FURTHER INFORMATION CONTACT: Sandy Rawdon, MDA SES Program Manager, Missile Defense Agency, Arlington, VA, (703) 693-1575.

SUPPLEMENTARY INFORMATION: In accordance with 5 U.S.C. 4314(c)(4), the following executives are appointed to the MDA PRB:

Major General Patrick J. O'Reilly, USA,

Mr. David Altwegg,

Mr. Keith Englander,

Ms. Patty Gargulinski,

RADM Alan Hicks, USN.

Executives listed will serve a one-year term, effective September 1, 2008.

Dated: September 3, 2008.
Patricia L. Toppings,
OSD Federal Register Liaison Officer, Department of Defense.

[FR Doc. E8-21098 Filed 9-10-08; 8:45 am]

BILLING CODE 5001-06-P